DEPARTMENT OF HOMELAND SECURITY

Transportation Security Administration

Intent To Request Extension From OMB of One Current Public Collection of Information: Sensitive Security Information Threat Assessment Application

AGENCY: Transportation Security Administration, DHS.

ACTION: 60-Day notice.

SUMMARY: The Transportation Security Administration (TSA) invites public comment on one currently approved Information Collection Request (ICR), Office of Management and Budget (OMB) control number 1652-0042, abstracted below that we will submit to OMB for an extension in compliance with the Paperwork Reduction Act (PRA). The ICR describes the nature of the information collection and its expected burden. The collection involves TSA determining whether the party or representative of a party seeking access to sensitive security information (SSI) in a civil proceeding in federal district court, a prospective bidder seeking access to SSI for the purpose of perfecting a proposal in response to a TSA request for proposal, a party to other contractual agreements (e.g., bailments), a participant of other transaction agreements, or someone who receives other conditional SSI disclosures may be granted access to the SSI.

DATES: Send your comments by July 6, 2020.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0042; Sensitive Security Information Threat Assessment. TSA is seeking to renew the control number (1652-0042) for the maximum three-year period in order to continue compliance with sec. 525(d) of the Department of Homeland Security Appropriations Act of 2007 (DHS Appropriations Act, Pub. L. 109-295, 120 Stat. 1382), as reenacted, and to continue the process for access to SSI. TSA developed this process for a party seeking access to SSI in a civil proceeding in federal district court who demonstrates a substantial need for relevant SSI in the preparation of the party's case, and who is unable without undue hardship to obtain the substantial equivalent of the information by other means. Under this process, the party or party's representative may request and be granted conditional access to the SSI at issue in the case.

These procedures also apply to additional categories of individuals seeking access to SSI. They apply to witnesses retained by a party as experts or consultants and court reporters that are required to record or transcribe testimony containing specific SSI and do not have a current security clearance required for access to classified national security information as defined by E.O. 12958 as amended. The procedure is also used by a prospective bidder who is seeking to submit a proposal in response to a request for proposal by TSA so they may request certain SSI to perfect their bid, an individual involved in the performance of non-traditional contractual agreements (for example, bailments) or other transaction agreements, or an individual receiving access to SSI under 49 CFR 1520.15(e) regarding other conditional disclosures.

Applicants seeking access to SSI in federal district court litigation, bidders, and certain other applicants will be required to complete TSA Form 2211 in order to have a security threat assessment completed before they can receive the requested SSI. TSA will use the information collected to conduct the security threat assessment for the purpose of determining whether the provision of such access to the information for the proceeding or other reason presents a risk of harm to the Nation. TSA recently revised the collection of information to allow individuals who are members of TSA PreCheck ™ (also known as TSA Pre✓®) Application Program) to provide a known traveler number (KTN) to facilitate the security threat assessment. This assessment includes: (1) A fingerprint-based criminal history records check (CHRC); (2) a name-based check to determine whether the individual poses or is suspected of posing a threat to transportation or national security, including checks against terrorism, immigration, or other databases TSA maintains or uses; and/or (3) implement other procedures and requirements for safeguarding SSI that are satisfactory to TSA including a professional responsibility check (for attorneys and court reporters). Based on the results of the security threat assessment, TSA will make a final determination on whether the individual may be granted access to the SSI.

TSA estimates that the total annual hour burden for this collection will be 275 hours, based on an estimated 256 annual respondents with a one-hour burden per respondent, plus 7 SSI litigant respondents with a 2.68-hour burden per respondent.

Dated: April 29, 2020. .
Christina A. Walsh,
TSA Paperwork Reduction Act Officer, Information Technology.

[FR Doc. 2020-09545 Filed 5-4-20; 8:45 am]

BILLING CODE 9110-05-P